ENVIRONMENTAL PROTECTION AGENCY

[FRL-7626-5]

Great Lakes Legacy Act—Request for Projects

AGENCY: United States Environmental Protection Agency—Great Lakes National Program Office.

ACTION: Funding availability.

SUMMARY: The U.S. Environmental Protection Agency (USEPA) Great Lakes National Program Office (GLNPO) is requesting proposals for projects, for up to $10,000,000, addressing contaminated sediment problems in Great Lakes Areas of Concern located wholly or partially in the United States (U.S. AOCs) as outlined in the Great Lakes Legacy Act of 2002 (the Legacy Act).

DATES: The deadline for all Project proposals is 5 p.m. Central Standard Time, March 31, 2004.

FOR FURTHER INFORMATION CONTACT: Scott Cieniawski, (312) 353-9184, cieniawski.scott@epa.gov or Marc Tuchman, (312) 353-1369, tuchman.marc@epa.gov.

SUPPLEMENTARY INFORMATION: The Request for Projects (RFP) is available on the Internet at http://www.epa.gov/glla.

The purpose of this request is to solicit ideas for projects that would help to implement the Great Lakes Legacy Act. In order to receive funding under the Legacy Act, projects must be located in one of the 31 U.S. Great Lakes AOCs. Top priority will be given to projects that are geared toward on-the-ground remediation (i.e., actual implementation of a remedial option) of contaminated sediments within a U.S. AOC. Remediation projects would include, but are not limited to, remedial options such as: Dredging, capping, monitored natural recovery, treatment technologies, or a combination of remedial alternatives for contaminated sediment.

The next priority level would be given to projects that seek to move a contaminated sediment site toward remediation. These projects could include: Site characterizations, site assessments, source identification/source control, monitoring, remedial alternatives evaluations and short-term/long-term effects analyses.

Please note that this Legacy Act RFP is a departure from GLNPO's annual funding guidance process. The funding guidance proposals for Great Lakes sediment grant projects are being solicited under a separate request for proposal process scheduled for release in January 2004.

Additionally, the Legacy Act program is not a grants program. The process for selecting Legacy Act projects is not a grants competition, but it is based on the development of a negotiated Project Agreement (PA) between USEPA and the non-federal sponsor. USEPA will consider projects based on the extent to which they meet the required components of the Legacy Act and this RFP.

The non-federal share of the cost of a project shall be at least 35% of the total project costs and 100% of cost of operation and maintenance of the project. It is the responsibility of the non-federal sponsor to secure the non-federal share of project costs. The non-federal share may include the value of in-kind services contributed by the non-federal sponsor, and may include funds or in-kind services provided pursuant to an administrative order on consent or a judicial consent decree. The non-federal share of the cost of a project may not include any funds paid pursuant to, or the value of any in-kind service performed under, a unilateral administrative order or court order.

GLNPO will review Legacy Act project proposals as they are received. GLNPO intends to enter into PA discussions with project applicants that meet the required components outlined in the RFP. With a limited amount of funds available in FY04, it is expected that the initial projects that result in a PA will be funded with FY04 funds, to the extent they are available. Other projects that result in a PA will be dependent upon funding, if any, received for the Act in FY05. If necessary, GLNPO will consider, but is not required to release, an additional solicitation for projects to be funded from FY05 appropriations.

Funding (through project agreements) is available pursuant to section 118(c) of the Federal Water Pollution Control Act (33 U.S.C. 1268(c)). States, tribes, industry, non-governmental organizations, and other stakeholders are eligible to apply.

Dated: January 29, 2004.
Gary V. Gulezian,
Director, Great Lakes National Program Office.

[FR Doc. 04-4126 Filed 2-24-04; 8:45 am]

BILLING CODE 6560-50-P